DEPARTMENT OF THE INTERIOR

Bureau of Land Management

[AZA23294]

Notice of Proposed Withdrawal Extension and Opportunity for Public Meeting; Arizona

AGENCY: Bureau of Land Management, Interior.

ACTION: Notice.

SUMMARY: The United States Department of Agriculture (USDA) Forest Service has filed an application with the Bureau of Land Management (BLM) that proposes to extend the duration of Public Land Order (PLO) No. 6801 for an additional 20-year period. This order withdrew approximately 61.356 acres of National Forest System land from the mining laws to protect the Smithsonian Institution's Fred Lawrence Whipple Observatory. The withdrawal created by PLO No. 6801 will expire on September 18, 2010, unless extended. This notice gives an opportunity to comment on the proposed action and to request a public meeting.

DATES: Comments and requests for a public meeting must be received by August 9, 2010.

ADDRESSES: Comments and meeting request should be sent to the Coronado National Forest Office, Federal Building, 300 West Congress Street, Tucson, Arizona 85701, (520) 388-8348.

FOR FURTHER INFORMATION CONTACT: Karl Sandwell-Weiss, Minerals Resource Geologist, at the Forest Service address listed above, or Vivian Titus, Bureau of Land Management, Arizona State Office, One North Central, Suite 800, Phoenix, Arizona 85004, (602) 417-9598.

SUPPLEMENTARY INFORMATION: The USDA Forest Service has filed an application requesting that the Secretary of the Interior extend PLO No. 6801 (55 FR 38550, (1990)) which withdrew approximately 61.356 acres of National Forest System land located in Santa Cruz County, Arizona, from location and entry under the United States mining laws (30 U.S.C. ch. 2) for an additional 20-year term, subject to valid existing rights. PLO No. 6801 is incorporated herein by reference.

The purpose of the proposed extension is to continue to protect valuable facilities and improvements for scientific work associated with the Smithsonian Institution's Fred Lawrence Whipple Observatory. The Federal investment and utility of the observatory may be lost if the site is open to mineral location.

As extended, the withdrawal would not alter the applicability of those public land laws governing the use of land under lease, license, or permit, or governing the disposal of the mineral or vegetative resources other than under the mining laws.

The use of a right-of-way or interagency or cooperative agreement would not provide adequate protection from prospecting disturbance, mining operations, or mineral patent, under the 36 CFR part 228, surface protection regulations.

There is no alternative site to ensure protection of the existing facilities on the above described public lands.

No water rights would be needed to fulfill the purpose of the requested withdrawal extension.

For a period of 90 days from the date of publication of this notice, all persons who wish to submit comments, suggestions, or objections in connection with the proposed withdrawal extension may present their views in writing to the Coronado National Forest Office, at the address stated above.

Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public inspection in their entirety.

Notice is hereby given that an opportunity for a public meeting is afforded in connection with the proposed withdrawal extension. All interested parties who desire a public meeting for the purpose of being heard on the proposed withdrawal extension must submit a written request to Karl Sandwell-Weiss, Coronado National Forest Office, at the address stated above by August 9, 2010. Upon determination by the authorized officer that a public meeting will be held, a notice of the time and place will be published in the Federal Register and in at least one local newspaper no less than 30 days before the scheduled date of the meeting.

The withdrawal extension application will be processed in accordance with the regulations set forth in 43 CFR 2310.4.

Authority: 43 CFR 2310.3-1(b).

Deborah E. Stevens,
Acting, Deputy State Director, Office of Communications.

[FR Doc. 2010-10987 Filed 5-7-10; 8:45 am]

BILLING CODE 3410-11-P